EQUAL EMPLOYMENT OPPORTUNITY COMMISSION

Sunshine Act Meeting

Time and Date: Wednesday, April 15, 2015, 9:00 a.m. Eastern Time.

Place: Miami Dade College, 500 NE 2nd Avenue, Wolfson Conference Meeting Room #7128, Miami, Florida 33132.

Status: The meeting will be open to the public.

Matters to be Considered: Open Session:

1. Announcement of Notation Votes, and

2. EEOC at 50: Confronting Racial and Ethnic Discrimination in the 21st Century Workplace.

Note: In accordance with the Sunshine Act, the meeting will be open to public observation of the Commission's deliberations and voting. (In addition to publishing notices on EEOC Commission meetings in the Federal Register, the Commission also provides information about Commission meetings on its Web site, www.eeoc.gov., and provides a recorded announcement a week in advance on future Commission sessions.)

Please telephone (202) 663-7100 (voice) and (202) 663-4074 (TTY) at any time for information on these meetings. The EEOC provides sign language interpretation and Communication Access Realtime Translation (CART) services at Commission meetings for the hearing impaired. Requests for other reasonable accommodations may be made by using the voice and TTY numbers listed above. CONTACT PERSON FOR MORE INFORMATION: Bernadette B. Wilson, Acting Executive Officer on (202) 663-4077.

Dated: March 17, 2015.
Bernadette B. Wilson,
Acting Executive Officer, Executive Secretariat.

[FR Doc. 2015-06440 Filed 3-17-15; 4:15 pm]

BILLING CODE 6570-01-P